DEPARTMENT OF THE INTERIOR

Fish and Wildlife Service

[FWS-R8-MB-2014-N098; FXMB12320100000P2-123-FF01M01000]

Golden Eagles; Programmatic Take Permit Decision; Finding of No Significant Impact of Final Environmental Assessment; Shiloh IV Wind Project, Solano County, California

AGENCY: Fish and Wildlife Service, Interior.

ACTION: Notice of availability.

SUMMARY: The U.S. Fish and Wildlife Service announces the availability of a Finding of No Significant Impact (FONSI) and final Environmental Assessment (FEA) under the National Environmental Policy Act (NEPA) for the issuance of a take permit for golden eagles pursuant to the Bald and Golden Eagle Protection Act (Eagle Act), in association with the operation of the Shiloh IV Wind Project in Solano County, California. The FEA was prepared in response to an application from Shiloh IV Wind Project, LLC (applicant), an affiliate of EDF Renewable Development, Incorporated, for a 5-year programmatic take permit for golden eagles under the Eagle Act. The applicant will implement a conservation program to avoid, minimize, and compensate for the project's impacts to eagles, as described in the applicant's Eagle Conservation Plan (ECP). We solicited comments on the draft Environmental Assessment (Draft EA) and have reviewed those comments in the course of preparing our findings for this project. Based on the FEA the Service concludes that a Finding of No Significant Impact (FONSI) is appropriate. Based on the FONSI and findings we prepared associated with the permit application, we intend to issue the permit after 30 days.

ADDRESSES: Obtaining Documents: You may download copies of the FONSI, FEA, our Response to Comments on the Draft EA, and the Final ECP for Shiloh IV Wind Project on the Internet at http://www.fws.gov/cno/conservation/migratorybirds.html. Alternatively, you may use one of the methods below to request a CD-ROM of the document.

• Email: ShilohIV_comments@fws.gov.

• U.S. Mail: Heather Beeler, Migratory Bird Program, U.S. Fish and Wildlife Service, Pacific Southwest Regional Office, 2800 Cottage Way, W-2605, Sacramento, CA 95825.

• Fax: Heather Beeler, Migratory Bird Program; Fax: 916-414-6486, Attn: Shiloh IV FONSI.

FOR FURTHER INFORMATION CONTACT: Heather Beeler, Migratory Bird Program, at the address shown above or at (916) 414-6651 (telephone).

SUPPLEMENTARY INFORMATION:

Introduction

The U.S. Fish and Wildlife Service evaluated an application under the Bald and Golden Eagle Protection Act (16 U.S.C. 668a-d; Eagle Act) for a programmatic golden eagle (Aquila chrysaetos) take permit from the Shiloh IV Wind Project LLC, (applicant) an affiliate of EDF Renewable Development, Incorporated, for a 5-year programmatic take permit for golden eagles. The Shiloh IV Wind Project is an operational wind facility in the Montezuma Hills Wind Resource Area (WRA) within Solano County, California. The application includes an Eagle Conservation Plan (ECP) as the foundation of the applicant's permit application, as well as a Bird and Bat Conservation Strategy (BBCS). The ECP and BBCS describe actions taken and proposed future actions to avoid, minimize, and mitigate adverse effects on eagles, birds, and bats.

We prepared this FEA to evaluate the impacts of several alternatives associated with this permit application for compliance with our Eagle Act permitting regulations in the Code of Federal Regulations (CFR) at 50 CFR 22.26, as well as impacts of implementation of the supporting ECP, which is included as an appendix to the FEA.

Public Comments on the Draft EA

We invited public comment on the Draft EA. In response, we received 32 comment letters: One from the U.S. Environmental Protection Agency, 3 from Native American tribes, 6 from nongovernmental organizations (NGOs), and 22 from the general public. Three NGO comment letters combined comments from multiple organizations, the first letter representing two environmental groups, the second representing six environmental groups, and the third representing two industry associations. In total, the 32 comment letters contained approximately 125 individual comments. These comments generally fell under one of five main categories: (1) Effects (addressing a variety of issues including age of the birds killed, number of fatalities, local population effects, cumulative effects, other sources of fatalities, and overall population numbers), (2) advanced conservation practices (ACPs) (addressing the Technical Advisory Committee (TAC), seasonal shutdowns, transparency of the process and future ACPs, project design, and seasonal curtailment), (3) mitigation (addressing methods for calculating mitigation requirements, monitoring of retrofits, location of retrofits, biological value of retrofits, and additional alternative measures, such as using new technologies, capturing and relocating eagles, and promoting establishment of new eagle nests), (4) monitoring and reporting (addressing frequency and length of the monitoring program, the reporting system, study design, and the desire to have third-party verification), or (5) general comments about the permitting program (including comments opposing the issuance of an eagle take permit).

Overall, the comments raised issues regarding the opportunities and challenges associated with issuing eagle take permits. We made minor changes to three topic areas of the FEA based on these comments. First, under the adaptive management process, we clarified that the TAC was intended to include only Service staff as overseers of the permit. We added more detailed information on the compensation program (utility electric pole retrofitting) and the resource equivalency analysis process used to calculate compensation. We also expanded our discussion of climate change with respect to its potential effects to eagles. After considering the comments, and in light of the record, we determined that neither substantial revisions nor a new analysis are required for the FEA. Detailed responses to specific comments are included in the FONSI (Attachment 2).

Decision

The Service has selected Alternative 3, issuance of a 5-year permit based on the applicant's ECP with additional mitigation and monitoring, and has determined that a Finding of No Significant Impact (FONSI) is appropriate for this action. Based on the FONSI and findings prepared associated with the permit application, we intend to issue a permit after 30 days.

Authority

We provide this notice under Section 668a of the Eagle Act (16 U.S.C. 668-668c) and NEPA regulations (40 CFR 1506.6).

Dated: June 19, 2014.
Alexandra Pitts,
Deputy Regional Director, Pacific Southwest, Sacramento, California.

[FR Doc. 2014-14953 Filed 6-26-14; 8:45 am]

BILLING CODE 4310-55-P